OFFICE OF PERSONNEL MANAGEMENT

Proposed Collection; Comment Request for Revision of a Currently Approved Information Collection: (OMB Control No. 3206-0230; Standard Form [SF] 2817)

AGENCY: Office of Personnel Management.

ACTION: Notice.

SUMMARY: In accordance with the Paperwork Reduction Act of 1995 (Pub. L. 104-13, May 22, 1995), this notice announces that the Office of Personnel Management (OPM) intends to submit to the Office of Management and Budget (OMB) a request for review of a revised information collection. This information collection, “Life Insurance Election” (OMB Control No. 3206-0230; SF 2817), is used by Federal employees and assignees (those who have acquired control of an employee/annuitant's coverage through an assignment or “transfer” of the ownership of the life insurance). Clearance of this form for use by active Federal employees is not required according to the Paperwork Reduction Act (Pub. L. 98-615). The Public Burden Statement meets the requirements of 5 CFR 1320.8(b)(3). Therefore, only the use of this form by assignees, i.e. members of the public, is subject to the Paperwork Reduction Act.

Comments are particularly invited on whether this information is necessary for the proper performance of functions of the Office of Personnel Management, and whether it will have practical utility; whether our estimate of the public burden of this collection of information is accurate and based on valid assumptions and methodology; and ways in which we can minimize the burden of the collection of information on those who are to respond, through the use of appropriate technological collection techniques or other forms of information technology.

Approximately 150 SF 2817 forms are completed annually by assignees. This form takes approximately 15 minutes to complete. The annual estimated burden is 37.5 hours.

For copies of this proposal, contact Cyrus S. Benson by telephone at (202) 606-4808, by FAX (202) 606-0910, or by e-mail to Cyrus.Benson@opm.gov. Please include a mailing address with your request.

DATES: Comments on this proposal should be received within 60 calendar days of the date of this publication.

ADDRESSES: Send or deliver comments to Christopher N. Meuchner, FSA, Life, & Long Term Care Insurances, Federal Employee Insurance Operations, Healthcare & Insurance, U.S. Office of Personnel Management, 1900 E Street, NW.—Room 2H22, Washington, DC 20415-3661.

For Information Regarding Administrative Coordination Contact: Cyrus S. Benson, Team Leader, Publications Team, RS/RM/Administrative Services, 1900 E Street, NW.—Room 4332, Washington, DC 20415, (202) 606-0623.

U.S. Office of Personnel Management.
John Berry,
Director.

[FR Doc. 2011-8050 Filed 4-4-11; 8:45 am]

BILLING CODE 6325-38-P